DEPARTMENT OF COMMERCE

National Oceanic and Atmospheric Administration

50 CFR Part 622

[Docket No. 150303208-6099-01]

RIN 0648-BE70

Fisheries of the Caribbean, Gulf of Mexico, and South Atlantic; Snapper-Grouper Fishery Off the Southern Atlantic States; Amendment 35

AGENCY: National Marine Fisheries Service (NMFS), National Oceanic and Atmospheric Administration (NOAA), Commerce.

ACTION: Proposed rule; request for comments.

SUMMARY: NMFS proposes regulations to implement Amendment 35 to the Fishery Management Plan for the Snapper-Grouper Fishery of the South Atlantic Region (FMP) (Amendment 35), as prepared and submitted by the South Atlantic Fishery Management Council (Council). The proposed rule, if implemented, would remove black snapper, mahogany snapper, dog snapper, and schoolmaster from the FMP as well as revise regulations regarding the golden tilefish longline endorsement program. The purpose of this rule is to ensure that only snapper-grouper species requiring Federal management are included in the Snapper-Grouper FMP, improve the consistency of management of snapper-grouper species in waters off south Florida across state and Federal jurisdictional boundaries, and to align regulations for golden tilefish longline endorsements with the Council's original intent for establishing the longline endorsement program.

DATES: Written comments must be received on or before April 4, 2016.

ADDRESSES: You may submit comments on the proposed rule identified by “NOAA-NMFS-2015-0076” by any of the following methods:

• Electronic Submissions: Submit all electronic public comments via the Federal e-Rulemaking Portal: http://www.regulations.gov. Go to www.regulations.gov/#!docketDetail;D=NOAA-NMFS-2015-0076, click the “Comment Now!” icon, complete the required fields, and enter or attach your comments.

• Mail: Submit written comments to Nikhil Mehta, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

Electronic copies of Amendment 35 may be obtained from the Southeast Regional Office Web site at http://sero.nmfs.noaa.gov. Amendment 35 includes a draft environmental assessment, a Regulatory Flexibility Act (RFA) analysis, a Regulatory Impact Review, and a Fishery Impact Statement.

FOR FURTHER INFORMATION CONTACT: Nikhil Mehta, telephone: 727-824-5305; email: nikhil.mehta@noaa.gov.

SUPPLEMENTARY INFORMATION: The snapper-grouper fishery of the South Atlantic is managed under the FMP, and includes black snapper, mahogany snapper, dog snapper, schoolmaster, and golden tilefish. The FMP was prepared by the Council and is implemented through regulations at 50 CFR part 622 under the authority of the Magnuson-Stevens Fishery Conservation and Management Act (Magnuson-Stevens Act).

Management Measures Contained in This Proposed Rule

This rule would remove black snapper, mahogany snapper, dog snapper, and schoolmaster from the FMP, and revise the golden tilefish longline endorsement regulations to be consistent with the Council's original intent for establishing the longline endorsement program.

Remove Four Species From the FMP

Black snapper, mahogany snapper, dog snapper, and schoolmaster are currently in the FMP, but have extremely low commercial landings in state and Federal waters, and almost all harvest (recreational and commercial) occurs in waters off the coast of South Florida. Currently, NMFS does not manage these species in Federal waters of the Gulf of Mexico (Gulf); however, the species are subject to regulations in Florida state waters. As described in Amendment 35, there are currently different regulations for recreational bag limits, size limits, and catch levels for these species between the Gulf, South Atlantic, and Florida. Inconsistent regulations make enforcement difficult and can be confusing to the public. This rule would remove black snapper, mahogany snapper, dog snapper, and schoolmaster from the FMP and NMFS's management in Federal waters of the South Atlantic to ensure that only species requiring federal management are included in the FMP. The state of Florida has indicated that if these species are removed from the FMP, it intends to extend state regulation of these species into Federal waters off Florida for Florida-state registered fishing vessels, under § 306(a)(3)(A) of the Magnuson-Stevens Act, to provide consistent regulations for these species across state and Federal jurisdictional boundaries.

Black snapper is part of the deep-water complex within the FMP. The deep-water complex currently includes black snapper, yellowedge grouper, silk snapper, misty grouper, queen snapper, sand tilefish, and blackfin snapper. If black snapper is removed from the FMP, the annual catch limit (ACL) for the deep-water complex would be reduced from 170,279 lb (77,237 kg), round weight, to 169,896 lb (77,063 kg), round weight, a difference of 382 lb (173 kg), round weight.

Dog snapper and mahogany snapper are part of the other snappers complex within the FMP. The other snappers complex currently includes cubera snapper, gray snapper, lane snapper, dog snapper, and mahogany snapper. Removal of dog snapper and mahogany snapper from the FMP would reduce the other snappers complex ACL from 1,517,716 lb (688,424 kg), round weight, to 1,513,883 lb (686,688 kg), round weight, a difference of 3,833 lb (1,739 kg), round weight.

Dog snapper, mahogany snapper, and black snapper are not typically targeted by commercial or recreational fishermen; therefore, bycatch associated with harvest of these species is extremely low. Schoolmaster is currently designated as an ecosystem component (EC) species in the FMP. The Council did not choose to retain dog snapper, mahogany snapper, and black snapper in the FMP as EC species because the objective of the amendment is to establish a consistent regulatory environment across jurisdictional boundaries in Gulf and South Atlantic Federal waters and Florida state waters. Because NMFS does not manage these species in Gulf Federal waters, retaining them as EC species would continue inconsistent regulations across jurisdictional boundaries. Additionally, if these species are designated as EC species, the state of Florida would not be able to extend their management authority for these species into Federal waters, because states may not generally manage species in Federal waters if those species are included in Federal fishery management plans.

A formal stock assessment has not been performed for black snapper, mahogany snapper, dog snapper, or schoolmaster; however, there is no indication that these stocks are depleted. Therefore, removing these species from the FMP is not expected to result in any adverse biological effects.

Clarify Regulations for Golden Tilefish Endorsement Holders

The final rule to implement Amendment 18B to the FMP (78 FR 23858, April 23, 2013) established a longline endorsement program for the commercial golden tilefish component of the snapper-grouper fishery. A longline endorsement is required to fish for golden tilefish with longline gear. Amendment 18B also established a golden tilefish hook-and-line quota and modified the golden tilefish commercial trip limits. The golden tilefish longline endorsement, sector quotas, and trip limits, were implemented because the golden tilefish commercial ACL was being harvested rapidly by fishermen using longline gear, so that fishermen who had historically used hook-and-line gear to target golden tilefish were not able to participate in the golden tilefish portion of the snapper-grouper fishery. The Council established the longline endorsement program and gear specific commercial quotas to help ensure that fishermen fishing with each gear type have a fair and equitable allocation of the commercial quota. The Council did not intend for longline endorsement holders to fish on the hook-and-line quota, or for non-endorsement holders to fish on the longline quota.

The Council and NMFS are aware that since Amendment 18B was implemented, some longline endorsement holders are transferring their golden tilefish longline endorsement to another vessel and then fishing for golden tilefish using hook-and-line gear under the hook-and-line quota. Other endorsement holders are renewing their Federal commercial snapper-grouper vessel permit but are waiting to renew their golden tilefish longline endorsement, so that they are able to fish for golden tilefish using hook-and-line gear under the hook-and-line quota while their longline endorsement is not valid. Neither scenario is consistent with the original intent of the Council in Amendment 18B. The Council decided to clarify their intent for golden tilefish longline endorsement holders in Amendment 35. Currently, as described at § 622.191(a)(2)(ii), the regulations state that “Vessels with a golden tilefish longline endorsement are not eligible to fish for golden tilefish using hook-and-line gear under this 500-lb (227-kg), gutted weight, trip limit.” This rule would propose that “Vessels that have valid or renewable golden tilefish longline endorsements anytime during the fishing year, are not eligible to fish for golden tilefish using hook-and-line gear under this 500-lb (227-;kg), gutted weight, trip limit.” Thus, a fisherman who owns a vessel with a valid or renewable golden tilefish longline endorsement would not be eligible to fish for golden tilefish using hook-and-line gear under the 500-lb (227-kg), gutted weight, hook-and-line trip limit during that fishing year.

Additional Change to Codified Text

In the part 622 regulations, NMFS would revise “allowable biological catch” to read “acceptable biological catch” wherever it occurs. In the part 600 regulations, “ABC” is defined as “acceptable biological catch;” however, in the part 622 regulations, “ABC” is defined as “acceptable biological catch” in three places and “allowable biological catch” in four places. NMFS has determined that “acceptable biological catch” is the more precise definition for “ABC”. Therefore, to be consistent with the part 600 regulations and to use the more precise terminology, NMFS proposes to change the definition of “ABC” to “acceptable biological catch,” and accordingly revise “allowable biological catch,” wherever it occurs in the part 622 regulations.

Classification

Pursuant to section 304(b)(1)(A) of the Magnuson-Stevens Act, the Assistant Administrator has determined that this proposed rule is consistent with Amendment 35, the FMP, the Magnuson-Stevens Act, and other applicable law, subject to further consideration after public comment.

This proposed rule has been determined to be not significant for purposes of Executive Order 12866.

A Regulatory Flexibility Act (RFA) Analysis was prepared as an Appendix to Amendment 35 and is available from NMFS (see ADDRESSES). For this proposed rule, NMFS adopts this analysis as its initial regulatory flexibility analysis (IRFA) required by section 603 of the RFA, 5 U.S.C. 603. The IRFA describes the economic impact that this proposed rule, if implemented, would have on small entities. A description of the proposed rule, why it is being considered, and the objectives of, and legal basis for this proposed rule are contained at the beginning of this section in the preamble and in the SUMMARY section of the preamble. A summary of the IRFA follows.

The Magnuson-Stevens Act provides the statutory basis for this rule. No duplicative, overlapping, or conflicting Federal rules have been identified. In addition, no new reporting, record-keeping, or other compliance requirements are introduced by this proposed rule. Accordingly, this rule does not implicate the Paperwork Reduction Act.

This proposed rule would be expected to directly affect all commercial vessels that harvest black snapper, dog snapper, mahogany snapper, schoolmaster and/or golden tilefish under the FMP. The removal of the four snapper-grouper species discussed in this proposed rule would not directly apply to or affect charter vessel and headboat (for-hire) businesses. Any impact to the profitability or competitiveness of for-hire fishing businesses would be the result of changes in for-hire angler demand and would therefore be indirect in nature. Currently, charter and headboat captains and crew can retain black snapper, dog snapper, mahogany snapper, schoolmaster and golden tilefish under the recreational bag limit; however, they cannot sell these fish. As such, charter and headboat captains and crew would only be affected as recreational anglers. The RFA does not consider recreational anglers, who would be directly affected by this proposed rule, to be small entities, so they are outside the scope of this analysis and only the effects on commercial vessels were analyzed.

As of November 3, 2014, there were 564 vessels with valid or renewable South Atlantic Snapper-Grouper Unlimited Permits, 120 vessels with valid or renewable 225-lb (102-kg) Trip Limit Permits and 22 vessels with valid or renewable longline endorsements for golden tilefish. Although all commercial snapper-grouper permit holders have the opportunity to fish for black snapper, dog snapper, mahogany snapper, and/or schoolmaster, on average, there were only four federally permitted vessels identified from 2009 through 2013 that commercially landed one or more of these species each year. The average annual vessel-level revenue for all species harvested by these four vessels over this period was approximately $101,000 (2013 dollars), of which $32 was from black snapper, dog snapper, mahogany snapper, and/or schoolmaster. During the same time period, on average, 22 vessels per year commercially harvested golden tilefish using longline gear and their annual average vessel-level revenue for all species was approximately $95,000 (2013 dollars), of which $55,000 was from golden tilefish. Thirty-seven vessels, on average (2009 through 2013), commercially harvested golden tilefish exclusively with non-longline gear and they earned an average of approximately $46,000 (2013 dollars) per vessel for all species harvested, of which $2,000 was from golden tilefish.

No other small entities that would be directly affected by this proposed rule have been identified.

The Small Business Administration (SBA) has established size criteria for all major industry sectors in the U.S., including commercial finfish harvesters (NAICS code 114111). A business primarily involved in finfish harvesting is classified as a small business if it is independently owned and operated, is not dominant in its field of operation (including its affiliates), and has combined annual receipts not in excess of $20.5 million for all its affiliated operations worldwide. All of the vessels directly regulated by this rule are believed to be small entities based on the SBA size criteria.

Of the 684 vessels eligible to fish for the species managed under the FMP, only 63 of them are expected to be affected by this proposed rule (approximately 9 percent). Because all of these commercial fishing businesses are believed to be small entities, the issue of disproportionate effects on small versus large entities does not arise in the present case.

This proposed rule would remove black snapper, dog snapper, mahogany snapper, and schoolmaster from the FMP. The state of Florida intends to then extend its management of these species into Federal waters. Average revenues per vessel from 2009 through 2013 for these four snapper-grouper species accounted for less than 1 percent of average total revenues received by the vessels that commercially harvested these species. Almost all harvest (recreational and commercial) of these species occurs in state and Federal waters off the coast of Florida. The normal harvest of these species would not be expected to change under management by the state of Florida, thus no reduction in associated ex-vessel revenue or profit would be expected from this proposed rule.

This proposed rule would also modify the golden tilefish longline endorsement regulations. Vessels that have Federal commercial snapper-grouper permits with golden tilefish longline endorsements, specifically those that harvest golden tilefish using both longline and hook-and-line gear, would be expected to be negatively affected by this proposed action because they would no longer be able to harvest golden tilefish using hook-and-line gear under the hook-and-line quota. This would result in reduced revenues if they are unable to substitute the harvest of other species. A total of four vessels were identified in 2014 that had a valid or renewable golden tilefish longline endorsement during some part of the year and also harvested golden tilefish under the hook-and-line 500-lb (227-kg) trip limit quota. On average, these four vessels earned an estimated $8,142 (2013 dollars) per vessel from golden tilefish landings using hook-and-line gear in 2014. This accounts for approximately 9.2 percent of their average total revenue per vessel (2009 through 2013; 2014 data were incomplete). Therefore, this proposed rule, if implemented, assuming no substitution of other species and constant prices, would be expected to result in an estimated recurring annual loss of $8,142 (2013 dollars) per vessel for the four vessels that harvested golden tilefish using both longline and hook-and-line gear. Vessels that do not have longline endorsements, on the other hand, would be expected to indirectly benefit from this proposed rule, because they would no longer have to compete with longline endorsement holders for the hook-and-line quota. On average, the 37 non-longline endorsement holders would be expected to experience an annual per-vessel increase in revenue of approximately $880 (2013 dollars) or less than 2 percent of their annual average vessel-level revenue.

The following discussion analyzes the alternatives that were not selected as preferred by the Council. Only actions that would have direct economic effects on small entities merit inclusion.

Five alternatives were considered to remove species from the FMP. The first alternative, the no action alternative, would retain all current species in the FMP and would not be expected to have any economic effects. Under the no action alternative, species that do not require Federal management would remain in the FMP and potential cost savings and/or efficiency gains of management would go unrealized. All of the other alternatives were selected as preferred and would result in the removal of black snapper, dog snapper, mahogany snapper, and schoolmaster from Federal management.

Three alternatives, including the preferred alternative, were considered for modifying the golden tilefish endorsement regulations. The first alternative, the no action alternative, would not be expected to have any economic effects. The current golden tilefish endorsement regulations are, however, contrary to the intent of the Council and unintentionally limit golden tilefish harvest opportunities and economic benefits for hook-and-line fishermen. The second alternative would revise the golden tilefish endorsement regulations so that any vessel with a valid or renewable longline endorsement would not be permitted to harvest golden tilefish under the hook-and-line quota. Under the second alternative, longline endorsement holders that operate more than one vessel (with a Federal snapper-grouper vessel permit) would be able to transfer their golden tilefish longline endorsement to a different vessel and then continue to fish for golden tilefish under the hook-and-line quota in a single year. Only one vessel exhibited this behavior in 2014. Under the second alternative, the negative economic effects on the longline endorsement holders would be lower than under this proposed rule, as would the positive effects experienced by the hook-and-line component of the commercial sector. However, this alternative would be inconsistent with the original Council intent of establishing the longline endorsement.

List of Subjects in 50 CFR Part 622

Acceptable biological catch, Annual catch limit, Commercial trip limit, Fisheries, Fishing, Quotas, Snapper-grouper, South atlantic, Species table.

Dated: February 26, 2016.
Samuel D. Rauch III,
Deputy Assistant Administrator for Regulatory Programs, National Marine Fisheries Service.

For the reasons set out in the preamble, 50 CFR part 622 is proposed to be amended as follows:

PART 622—FISHERIES OF THE CARIBBEAN, GULF OF MEXICO, AND SOUTH ATLANTIC

1. The authority citation for part 622 continues to read as follows:

Authority: 16 U.S.C. 1801 et seq.

2. In part 622, revise “allowable biological catch” to read “acceptable biological catch” wherever it occurs.

3. In § 622.185, paragraph (a)(3) is revised to read as follows:

§ 622.185 Size limits.

* * * * *

(a) * * *

(3) Blackfin, cubera, gray, queen, silk, and yellowtail snappers—12 inches (30.5 cm), TL.

* * * * *

4. In § 622.191, the second sentence in paragraph (a)(2)(ii) is revised to read as follows:

§ 622.191 Commercial trip limits.

* * * * *

(a) * * *

(2) * * *

(ii) * * * Vessels that have valid or renewable golden tilefish longline endorsements any time during the fishing year, are not eligible to fish for golden tilefish using hook-and-line gear under this 500-lb (227-kg), gutted weight, trip limit.

* * * * *

5. In § 622.193, paragraphs (h) and (p) are revised to read as follows:

§ 622.193 Annual catch limits (ACLs), annual catch targets (ACTs), and accountability measures (AMs).

* * * * *

(h) Deep-water complex (including yellowedge grouper, silk snapper, misty grouper, queen snapper, sand tilefish, and blackfin snapper)—(1) Commercial sector—(i) If commercial landings for the deep-water complex, as estimated by the SRD, reach or are projected to reach the commercial ACL of 131,268 lb (59,542 kg), round weight, the AA will file a notification with the Office of the Federal Register to close the commercial sector for the remainder of the fishing year. On and after the effective date of such a notification, all sale or purchase of deep-water complex species is prohibited and harvest or possession of these species in or from the South Atlantic EEZ is limited to the bag and possession limits. These bag and possession limits apply in the South Atlantic on board a vessel for which a valid Federal commercial or charter vessel/headboat permit for South Atlantic snapper-grouper has been issued, without regard to where such species were harvested, i.e., in state or Federal waters.

(ii) If commercial landings exceed the ACL, and the combined commercial and recreational ACL of 169,896 lb (77,064 kg), round weight, is exceeded, and at least one of the species in the deep-water complex is overfished, based on the most recent Status of U.S. Fisheries Report to Congress, the AA will file a notification with the Office of the Federal Register, at or near the beginning of the following fishing year to reduce the commercial ACL for that following year by the amount of the commercial ACL overage in the prior fishing year.

(2) Recreational sector. (i) If recreational landings for the deep-water complex, as estimated by the SRD, are projected to reach the recreational ACL of 38,628 lb (17,521 kg), round weight, the AA will file a notification with the Office of the Federal Register to close the recreational sector for the remainder of the fishing year, unless the RA determines that no closure is necessary based on the best scientific information available. On and after the effective date of such a notification, the bag and possession limits are zero.

(ii) If recreational landings for the deep-water complex, exceed the applicable recreational ACL, and the combined commercial and recreational ACL of 169,896 lb (77,064 kg), round weight, is exceeded, and at least one of the species in the deep-water complex is overfished, based on the most recent Status of U.S. Fisheries Report to Congress, the AA will file a notification with the Office of the Federal Register, to reduce the length of the recreational fishing season in the following fishing year to ensure recreational landings do not exceed the recreational ACL the following fishing year. When NMFS reduces the length of the following recreational fishing season and closes the recreational sector, the following closure provisions apply: The bag and possession limits for the deep-water complex in or from the South Atlantic EEZ are zero. Additionally, the recreational ACL will be reduced by the amount of the recreational ACL overage in the prior fishing year. The fishing season and recreational ACL will not be reduced if the RA determines, using the best scientific information available that no reduction is necessary.

* * * * *

(p) Other snappers complex (including cubera snapper, gray snapper, and lane snapper)—(1) Commercial sector—(i) If commercial landings for the other snappers complex, as estimated by the SRD, reach or are projected to reach the complex commercial ACL of 344,575 lb (156,297 kg), round weight, the AA will file a notification with the Office of the Federal Register, to close the commercial sector for this complex for the remainder of the fishing year. On and after the effective date of such a notification, all sale or purchase of cubera snapper, gray snapper, and lane snapper is prohibited, and harvest or possession of any of these species in or from the South Atlantic EEZ is limited to the bag and possession limits. These bag and possession limits apply in the South Atlantic on board a vessel for which a valid Federal commercial or charter vessel/headboat permit for South Atlantic snapper-grouper has been issued, without regard to where such species were harvested, i.e., in state or Federal waters.

(ii) If commercial landings for the other snappers complex, as estimated by the SRD, exceed the commercial ACL, and the combined commercial and recreational ACL of 1,513,883 lb (686,686 kg), round weight, is exceeded, and at least one of the species in the other snappers complex is overfished, based on the most recent Status of U.S. Fisheries Report to Congress, the AA will file a notification with the Office of the Federal Register to reduce the commercial ACL for that following year by the amount of the commercial ACL overage in the prior fishing year.

(2) Recreational sector—(i) If recreational landings for the other snappers complex, as estimated by the SRD, reach or are projected to reach the recreational ACL of 1,169,308 lb (530,391 kg), round weight, the AA will file a notification with the Office of the Federal Register to close the recreational sector for the remainder of the fishing year regardless if any stock in the other snappers complex is overfished, unless NMFS determines that no closure is necessary based on the best scientific information available. On and after the effective date of such a notification, the bag and possession limits for any species in the other snappers complex in or from the South Atlantic EEZ are zero.

(ii) If recreational landings for the other snappers complex, as estimated by the SRD, exceed the recreational ACL, then during the following fishing year, recreational landings will be monitored for a persistence in increased landings, and if necessary, the AA will file a notification with the Office of the Federal Register, to reduce the length of the recreational fishing season and the recreational ACL by the amount of the recreational ACL overage, if at least one of the species in the other snappers complex is overfished based on the most recent Status of U.S. Fisheries Report to Congress, and the combined commercial and recreational ACL of 1,513,883 lb (686,686 kg), round weight, is exceeded during the same fishing year. NMFS will use the best scientific information available to determine if reducing the length of the recreational fishing season and recreational ACL is necessary. When the recreational sector is closed as a result of NMFS reducing the length of the recreational fishing season and the ACL, the bag and possession limits for any species in the other snappers complex in or from the South Atlantic EEZ are zero.

* * * * *

6. In Appendix A to part 622, Table 4 is revised to read as follows:

Appendix A to Part 622—Species Tables

* * * * *

Table 4 of Appendix A to Part 622—South Atlantic Snapper-Grouper

Balistidae—Triggerfishes

Gray triggerfish, Balistes capriscus

Carangidae—Jacks

Bar jack, Caranx ruber

Greater amberjack, Seriola dumerili

Lesser amberjack, Seriola fasciata

Almaco jack, Seriola rivoliana

Banded rudderfish, Seriola zonata

Ephippidae—Spadefishes

Spadefish, Chaetodipterus faber

Haemulidae—Grunts

Margate, Haemulon album

Tomtate, Haemulon aurolineatum

Sailor's choice, Haemulon parrai

White grunt, Haemulon plumieri

Labridae—Wrasses

Hogfish, Lachnolaimus maximus

Lutjanidae—Snappers

Queen snapper, Etelis oculatus

Mutton snapper, Lutjanus analis

Blackfin snapper, Lutjanus buccanella

Red snapper, Lutjanus campechanus

Cubera snapper, Lutjanus cyanopterus

Gray snapper, Lutjanus griseus

Lane snapper, Lutjanus synagris

Silk snapper, Lutjanus vivanus

Yellowtail snapper, Ocyurus chrysurus

Vermilion snapper, Rhomboplites aurorubens

Malacanthidae—Tilefishes

Blueline tilefish, Caulolatilus microps

Golden tilefish, Lopholatilus chamaeleonticeps

Sand tilefish, Malacanthus plumieri

Percichthyidae—Temperate basses

Wreckfish, Polyprion americanus

Serranidae—Groupers

Rock hind, Epinephelus adscensionis

Graysby, Epinephelus cruentatus

Speckled hind, Epinephelus drummondhayi

Yellowedge grouper, Epinephelus flavolimbatus

Coney, Epinephelus fulvus

Red hind, Epinephelus guttatus

Goliath grouper, Epinephelus itajara

Red grouper, Epinephelus morio

Misty grouper, Epinephelus mystacinus

Warsaw grouper, Epinephelus nigritus

Snowy grouper, Epinephelus niveatus

Nassau grouper, Epinephelus striatus

Black grouper, Mycteroperca bonaci

Yellowmouth grouper, Mycteroperca interstitialis

Gag, Mycteroperca microlepis

Scamp, Mycteroperca phenax

Yellowfin grouper, Mycteroperca venenosa

Serranidae—Sea Basses

Black sea bass, Centropristis striata

Sparidae—Porgies

Jolthead porgy, Calamus bajonado

Saucereye porgy, Calamus calamus

Whitebone porgy, Calamus leucosteus

Knobbed porgy, Calamus nodosus

Red porgy, Pagrus pagrus

Scup, Stenotomus chrysops

The following species are designated as ecosystem component species:

Cottonwick, Haemulon melanurum

Bank sea bass, Centropristis ocyurus

Rock sea bass, Centropristis philadelphica

Longspine porgy, Stenotomus caprinus

Ocean triggerfish, Canthidermis sufflamen

* * * * *

[FR Doc. 2016-04808 Filed 3-3-16; 8:45 am]

BILLING CODE 3510-22-P